DEPARTMENT OF COMMERCE

National Oceanic and Atmospheric Administration

RIN 0648-XD871

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held April 28-30, 2015, from 8 a.m. to 5 p.m.

ADDRESSES: The meeting will be held at the Andaz San Diego Hotel, 600 F Street, San Diego, CA 92101; 619-849-1234.

FOR FURTHER INFORMATION CONTACT: Jennifer Lukens, MAFAC Executive Director; (301) 427-8004; email: Jennifer.Lukens@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and discuss policies and guidance on the following topics: Climate impacts on the Pacific coast, the NOAA Fisheries Draft Climate Science Strategy, improving recovery of protected resources, cooperative research and management, marine recreational information program, implementation of the recreational fisheries policy, and proposed revisions to National Standard 1. The meeting will include discussion of various MAFAC administrative and organizational matters and may include meetings of the standing subcommittees.

Special Accommodations

The meeting is physically accessible to people with disabilities. Requests for sign language interpretation or other auxiliary aids should be directed to Jennifer Lukens, MAFAC Executive Director; 301-427-8004 by April 17, 2015.

Dated: March 31, 2015.
Eileen Sobeck,
Assistant Administrator for Fisheries, National Marine Fisheries Service.

[FR Doc. 2015-07947 Filed 4-3-15; 8:45 am]

BILLING CODE 3510-22-P